DEPARTMENT OF AGRICULTURE

Food Safety and Inspection Service

[Docket No. 03-041N]

Public Meeting on New Technology: The State of Food Safety Technologies To Enhance Public Health

AGENCY: Food Safety and Inspection Service, USDA.

ACTION: Notice of public meeting.

SUMMARY: The Food Safety and Inspection Service (FSIS) will hold a public meeting on January 13, 2004, to discuss the development and use of new food safety technologies to enhance public health.

DATES: The public meeting is scheduled for Tuesday, January 13, 2004, from 8:30 a.m. to 5 p.m.

ADDRESSES: The public meeting will be held at the Doubletree Hotel, 1616 Dodge Street, Omaha, NE 68102; telephone (402) 346-7600. A tentative agenda will be available in the FSIS Docket Room and on the Internet at http://www.fsis.usda.gov. An official transcript of the meeting, when it becomes available, will be kept in the FSIS Docket Room, Room 102 Cotton Annex, 300 12th Street, SW., Washington, DC 20250-3700.

FOR FURTHER INFORMATION CONTACT: Dr. Perfecto Santiago, Executive Associate for Program Development, at (202) 205-0699. Registration for the meeting will be onsite. FSIS encourages attendees to pre-register as soon as possible by contacting Ms. Mary Harris of the FSIS Strategic Initiatives, Partnerships and Outreach Staff at (202) 690-6497 or by e-mail to mary.harris@fsis.usda.gov or fax (202) 690-6500. If a sign language interpreter or other special accommodations are necessary, please contact Ms. Harris no later than December 31, 2003.

SUPPLEMENTARY INFORMATION:

Background

The 2003 FSIS Food Safety Vision Statement states that FSIS is implementing several new initiatives in order to continue towards its vision for food safety, including expediting the review and implementation of safe interventions at slaughter and processing plants. FSIS reviews new technologies that establishments plan to employ to ensure that the use of these technologies is consistent with agency regulations, and that the technologies will not adversely affect product safety, inspection procedures, or the safety of FSIS inspection program personnel. In August 2003, the Office of the Under Secretary for Food Safety, United States Department of Agriculture, announced that the Food Safety and Inspection Service (FSIS) had established a New Technology Staff to streamline the implementation of new technologies in an establishment's operations and to reduce the amount of time it takes the agency to review these new technologies. The New Technology Staff will place significant emphasis on fostering the development and use of new technologies that can help reduce pathogens on meat and poultry products.

One purpose of this public meeting is to promote and facilitate an exchange of the latest information on new and emerging technologies of public health significance. In particular, FSIS will use the meeting to explore how small and very small plants can avail themselves of these technologies in their operations. The Agency also intends to use the meeting to explore ways to reduce the time between the development and implementation of new technologies.

Main topics to be discussed at the public meeting are as follows:

(1) The Agency's new procedures and ways to expedite even further the process for making promising food safety technologies available for use, including ways that FSIS and stakeholders can work together to make emerging technology more widely available. The stakeholders include academia, state governments, industry, consumers, and other government agencies. (2) Emerging technologies that have been commercialized or will soon be commercialized. These new technologies include the following categories:

a. Pre-slaughter operation interventions that treat the animal before slaughter operations begin, such as hide treatment and bacteria exclusion in the animal;

b. Decontamination methods during slaughter and processing operations, such as antimicrobials being used on the carcass;

c. Sanitation interventions to decontaminate product contact surfaces or to treat the environment in the slaughter and processing areas to exclude or remove organisms such as Listeria monocytogenes.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on December 17, 2003.
Garry L. McKee,
Administrator.

[FR Doc. 03-31542 Filed 12-22-03; 8:45 am]

BILLING CODE 3410-DM-P